DEPARTMENT OF TRANSPORTATION

Pipeline and Hazardous Materials Safety Administration

International Standards on the Transport of Dangerous Goods; Public Meetings

AGENCY: Pipeline and Hazardous Materials Safety Administration (PHMSA), Department of Transportation.

ACTION: Notice of public meeting.

SUMMARY: This notice is to advise interested persons that PHMSA will conduct a public meeting in preparation for the twentieth meeting of the International Civil Aviation Organization's (ICAO) Dangerous Goods Panel to be held October 24-November 4, 2005 in Montreal, Canada.

DATES: Tuesday, October 18, 2005, 10 a.m.-12 p.m.

ADDRESSES: DOT Headquarters, Nassif Building, Room 6332, 400 Seventh Street SW., Washington, DC 20590.

FOR FURTHER INFORMATION CONTACT: Mr. Bob Richard, Director, Office of International Standards, Office of Hazardous Materials Safety and Hazardous Materials Safety Administration, Department of Transportation, Washington, DC 20590; (202) 366-0656.

SUPPLEMENTARY INFORMATION: The primary purpose of this public meeting will be to discuss draft U.S. positions on the proposals that will be considered during the 20th Meeting of the ICAO Dangerous Goods Panel (DGP 20). Agenda items include:

Agenda Item 1: Development of proposals; if necessary, for amendments to Annex 18—The Safety Transport of Dangerous Goods by Air;

Agenda Item 2: Development of recommendations for amendments to the Technical Instructions for the Safe Transport of Dangerous Goods by Air (Doc 9284) for incorporation in the 2007-2008 Edition;

Agenda Item 3: Development of recommendations for amendments to the Supplement to the Technical Instructions for the Safe Transport of Dangerous Goods by Air (Doc. 9284) for incorporation in the 2007-2008 Edition;

Agenda Item 4: Amendments to Emergency Response Guidence for Aircraft Incidents Involving Dangerous Goods (Doc 9481); and

Agenda Item 5: Resolution, where possible, of the non-recurrent work items identified by the Commission or the panel;

(a) Principles governing the transport of dangerous goods on cargo only aircraft;

(b) Reformatting of the packing instructions; and

(c) Review of provisions for dangerous goods carried by passengers and crew.

For more information on the ICAO Dangerous Goods Panel visit PHMSA's International Standards Web site at http://hazmat.dot.gov/regs/intl/intstandards.htm.

Robert A. McGuire,
Associate Administrator for Hazardous Materials Safety.

[FR Doc. 05-17990 Filed 9-9-05; 8:45 am]

BILLING CODE 4910-60-M